DEPARTMENT OF HOMELAND SECURITY

U.S. Customs and Border Protection

[Docket No. USCBP-2016-0035]

Commercial Customs Operations Advisory Committee (COAC)

AGENCY: U.S. Customs and Border Protection (CBP), Department of Homeland Security (DHS).

ACTION: Committee Management; Notice of Federal Advisory Committee Meeting.

SUMMARY: The Commercial Customs Operations Advisory Committee (COAC) will meet in Boston, Massachusetts (MA). The meeting will be open to the public.

DATES: The Commercial Customs Operations Advisory Committee (COAC) will meet on Wednesday, July 27, 2016, from 12:30 p.m. to 4:30 p.m. EDT. Please note that the meeting may close early if the committee has completed its business.

Pre-Registration: Meeting participants may attend either in person or via webinar after pre-registering using a method indicated below:

—For members of the public who plan to attend the meeting in person, please register by 5:00 p.m. EDT by July 22, 2016 either online at https://apps.cbp.gov/te_reg/index.asp?w=78 by email to tradeevents@dhs.gov; or by fax to (202) 325-4290. You must register prior to the meeting in order to attend the meeting in person.

—For members of the public who plan to participate via webinar, please register online at https://apps.cbp.gov/te_reg/index.asp?w=79 by 5:00 p.m. EDT by July 22, 2016.

Feel free to share this information with other interested members of your organization or association.

Members of the public who are pre-registered and later need to cancel, please do so in advance of the meeting by accessing one (1) of the following links: https://apps.cbp.gov/te_reg/cancel.asp?w=78 to cancel an in person registration, or https://apps.cbp.gov/te_reg/cancel.asp?w=79 to cancel a webinar registration.

ADDRESSES: The meeting will be held at the Thomas P. O'Neill Federal Building, 10 Causeway Street, in the Auditorium, Boston, MA 02222. There will be signage posted directing visitors to the location of the meeting room.

For information on facilities or services for individuals with disabilities or to request special assistance at the meeting, contact Ms. Karmeshia Tuck, Office of Trade Relations, U.S. Customs and Border Protection at (202) 325-1030 as soon as possible.

To facilitate public participation, we are inviting public comment on the issues the committee will consider prior to the formulation of recommendations as listed in the “Agenda” section below.

Comments must be submitted in writing no later than July 22, 2016, and must be identified by Docket No. USCBP-2016-0035, and may be submitted by one (1) of the following methods:

• Federal eRulemaking Portal: http://www.regulations.gov. Follow the instructions for submitting comments.

• Email: Tradeevents@dhs.gov. Include the docket number in the subject line of the message.

• Fax: (202) 325-4290.

• Mail: Ms. Karmeshia Tuck, Office of Trade Relations, U.S. Customs and Border Protection, 1300 Pennsylvania Avenue NW., Room 3.5A, Washington, DC 20229.

Instructions: All submissions received must include the words “Department of Homeland Security” and the docket number (USCBP-2016-0035) for this action. Comments received will be posted without alteration at http://www.regulations.gov. Please do not submit personal information to this docket.

Docket: For access to the docket or to read background documents or comments, go to http://www.regulations.gov and search for Docket Number USCBP-2016-0035. To submit a comment, click the “Comment Now!” button located on the top-right hand side of the docket page.

There will be multiple public comment periods held during the meeting on July 27, 2016. Speakers are requested to limit their comments to two (2) minutes or less to facilitate greater participation. Contact the individual listed below to register as a speaker. Please note that the public comment period for speakers may end before the time indicated on the schedule that is posted on the CBP Web page, http://www.cbp.gov/trade/stakeholder-engagement/coac.

FOR FURTHER INFORMATION CONTACT: Ms. Karmeshia Tuck, Office of Trade Relations, U.S. Customs and Border Protection, 1300 Pennsylvania Avenue NW., Room 3.5A, Washington, DC 20229; telephone (202) 344-1661; facsimile (202) 325-4290.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection on matters pertaining to the commercial operations of CBP and related functions within the Department of Homeland Security and the Department of the Treasury.

Agenda

The COAC will hear from the following subcommittees on the topics listed below and then will review, deliberate, provide observations, and formulate recommendations on how to proceed:

1. The Exports Subcommittee will give an update on the Air, Ocean, and Rail Manifest Pilots, and discuss the progress of the Truck Manifest Sub-Working Group, which is coordinating with the 1 USG North American Single Window (NASW) Working Group. The Post Departure Filing (PDF) Working Group will discuss its Table Top exercise and additional feedback that it has been gathering from other interested stakeholders.

2. The Global Supply Chain Subcommittee will review and discuss recommendations related to the Pipeline Working Group and also provide an update on pilot discussions with industry. In addition, an update report on the progress of the Customs-Trade Partnership Against Terrorism(C-TPAT) Working Group that is reviewing and developing recommendations to update the C-TPAT minimum security criteria will be provided.

3. The One U.S. Government Subcommittee will discuss the progress of the North American Single Window (NASW) Working Group's NASW approach. The subcommittee will also discuss the progress of the Automated Commercial Environment (ACE) Single Window effort.

4. The Trade Enforcement and Revenue Collection (TERC) Subcommittee will discuss the progress made on prior TERC, Bond Working Group, and Intellectual Property Rights Working Group recommendations, as well the recommendations from the Antidumping and Countervailing Duty Working Group.

5. The Trade Modernization Subcommittee will discuss the progress of the International Engagement and Trade Facilitation Working Group which is identifying examples of best practices in the U.S. and abroad that facilitate trade and could be applied globally. The subcommittee will also discuss the progress of the Revenue Modernization Working Group.

6. The Trusted Trader Subcommittee will continue their discussion on their vision for an enhanced Trusted Trader concept that includes engagement with CBP to include relevant partner government agencies with a potential for international interoperability.

Meeting materials will be available by July 22, 2016, at: http://www.cbp.gov/trade/stakeholder-engagement/coac/coac-public-meetings.

Dated: July 6, 2016.
Maria Luisa Boyce,
Senior Advisor for Private Sector Engagement, Office of Trade Relations.

[FR Doc. 2016-16359 Filed 7-8-16; 8:45 am]

BILLING CODE 9111-14-P